DEPARTMENT OF ENERGY

Federal Energy Regulatory Commission

[Docket No. ER02-600-000]

Delta Energy Center, LLC; Notice of Issuance of Order

February 28, 2002.

Delta Energy Center, LLC (Delta Center), a wholly-owned subsidiary of Calpine Corporation, submitted for filing an initial rate schedule under which Delta Center will engage in: (1) The wholesale sales of electric energy, capacity, replacement of reserves and certain ancillary services, (2) reassign transmission capacity, and (3) resell firm transmission rights. Delta Center also requested waiver of various Commission regulations. In particular, Delta Center requested that the Commission grant blanket approval under 18 CFR Part 34 of all future issuances of securities and assumptions of liability by Delta Center.

The Commission's February 13, 2001 Order granted Delta Center's request for blanket approval under Part 34, subject to the conditions found in Appendix A in Ordering Paragraphs (2), (3), and (5):

(2) Within 30 days of the date of this order, any person desiring to be heard or to protest the Commission's blanket approval of issuances of securities or assumptions of liabilities by Delta Center should file a motion to intervene or protest with the Federal Energy Regulatory Commission, 888 First Street, NE., Washington, DC 20426, in accordance with Rules 211 and 214 of the Commission's Rules of Practice and Procedure, 18 CFR 385.211 and 385.214.

(3) Absent a request to be heard within the period set forth in Ordering Paragraph (2) above, Delta Center is hereby authorized to issue securities and assume obligations and liabilities as guarantor, indorser, surety or otherwise in respect of any security of another person; provided that such issue or assumption is for some lawful object within the corporate purposes of Delta Center, compatible with the public interest, and reasonably necessary or appropriate for such purposes.

(5) The Commission reserves the right to modify this order to require a further showing that neither public nor private interests will be adversely affected by continued Commission approval of Delta Center's issuances of securities or assumptions of liabilities * * *.

Notice is hereby given that the deadline for filing motions to intervene or protests, as set forth above, is March 15, 2002.

Copies of the full text of the Order are available from the Commission's Public Reference Branch, 888 First Street, NE, Washington, DC 20426. The Order may also be viewed on the Internet at http://www.ferc.fed.us/online/rims.htm (call 202-208-2222 for assistance). Comments, protests, and interventions may be filed electronically via the internet in lieu of paper. See, 18 CFR 385.2001(a)(1)(iii) and the instructions on the Commission's Web site at http://www.ferc.fed.us/efi/doorbell.htm.

Linwood A. Watson, Jr.,
Deputy Secretary.

[FR Doc. 02-5291 Filed 3-5-02; 8:45 am]

BILLING CODE 6717-01-P